NUCLEAR REGULATORY COMMISSION

[Docket No. 50-312]

Sacramento Municipal Utility District, Rancho Seco Nuclear Generating Station; Notice of Receipt and Availability for Comment of License Termination Plan

The Nuclear Regulatory Commission (NRC) is in receipt of and is making available for public inspection and comment the License Termination Plan (LTP) for the Rancho Seco Nuclear Generating Station (Rancho Seco) located in Sacramento County, California.

Rancho Seco was a 913-MWe pressurized water reactor designed by Babcock and Wilcox Company. The Sacramento Municipal Utility District (SMUD) shut down Rancho Seco permanently on June 7, 1989 after approximately 15 years of operation. On August 29, 1989, SMUD formally notified the NRC that the plant was shut down permanently.

On May 20, 1991, SMUD submitted the Rancho Seco Decommissioning Plan and on March 20, 1995, the NRC issued an Order approving the Decommissioning Plan and authorizing the decommissioning of Rancho Seco. In March 1997, SMUD submitted its Post Shutdown Decommissioning Activities Report (PSDAR), in accordance with 10 CFR 50.82. The PSDAR superseded the original Decommissioning Plan and provided the information required by 10 CFR 50.82(a)(4).

SMUD began actively decommissioning Rancho Seco in February 1997, and completed the transfer of all of the spent nuclear fuel to the 10 CFR part 72 ISFSI on August 21, 2002. Plant dismantlement is substantially complete and most of the systems, structures and components that were safety-related or important-to-safety have been removed from the plant and shipped for disposal.

In accordance with 10 CFR 50.82(a)(9), all power reactor licensees must submit an application for termination of their license. The application for termination of license must be accompanied or preceded by an LTP to be submitted for NRC approval. If found acceptable by the NRC staff, the LTP is approved by license amendment, subject to such conditions and limitations as the NRC staff deems appropriate and necessary. SMUD submitted the proposed LTP for Rancho Seco by application dated April 12, 2006. In accordance with 10 CFR 20.1405 and 10 CFR 50.82(a)(9)(iii), the NRC is providing notice to individuals in the vicinity of the site that the NRC is in receipt of the Rancho Seco LTP, and will accept comments from affected parties.

The Rancho Seco LTP is available for public viewing at the NRC's Public Document Room (PDR) or electronically through the NRC Agencywide Documents Access and Management System (ADAMS) at accession numbers ML061460052, ML061460053, ML061460093, ML061460095, ML061460097, ML061460098, ML061460100, ML061460101, ML061460103, ML061460105, ML061460107, ML061460109, ML061460110, ML061460113, ML061460116, ML061460129, ML061460152, ML061460154, ML061460157. Documents may be examined, and/or copied for a fee, at the PDR, located at One White Flint North, 11555 Rockville Pike (first floor), Rockville, Maryland. Publicly available records will be accessible electronically from the ADAMS Public Library component on the NRC Web site, http://www.nrc.gov (the Public Electronic Reading Room). Persons who do not have access to ADAMS or who encounter problems in accessing the documents located in ADAMS should contact the NRC PDR Reference staff by telephone at 1-800-397-4209, or 301-415-4737, or by E-mail at pdr@nrc.gov.

Comments regarding the Rancho Seco LTP may be submitted in writing and addressed to Mr. John B. Hickman, Mail Stop T-7E18, Decommissioning Directorate, Division of Waste Management and Environmental Protection, Office of Nuclear Material Safety and Safeguards, U.S. Nuclear Regulatory Commission, Washington, DC 20555-0001, telephone (301) 415-3017 or E-mail jbh@nrc.gov.

Dated at Rockville, Maryland, this 20th day of July 2006.
For the Nuclear Regulatory Commission.
Claudia Craig,
Chief, Reactor Decommissioning Section, Decommissioning Directorate, Division of Waste Management and Environmental Protection, Office of Nuclear Material Safety and Safeguards.

[FR Doc. E6-12926 Filed 8-8-06; 8:45 am]

BILLING CODE 7590-01-P